DEPARTMENT OF HEALTH AND HUMAN SERVICES

National Institutes of Health

National Institute on Aging; Amended Notice of Meeting

Notice is hereby given of a change in the meeting of the National Institute on Aging Special Emphasis Panel, October 11, 2022, 10 a.m. to October 11, 2022, 4 p.m., National Institute on Aging, Gateway Building, 7201 Wisconsin Avenue, Bethesda, MD, 20892 which was published in the Federal Register on September 09, 2022, 317059.

The meeting notice is amended to change the date of the meeting from October 11, 2022 to October 17, 2022. The time of the meeting will change to 10 a.m. to 1:30 p.m. The meeting is closed to the public.

Information is also available on the Institute's/Center's home page: www.nia.nih.gov/, where an agenda and any additional information for the meeting will be posted when available.

Dated: September 26, 2022.
Miguelina Perez,
Program Analyst, Office of Federal Advisory Committee Policy.

[FR Doc. 2022-21255 Filed 9-29-22; 8:45 am]

BILLING CODE 4140-01-P